DEPARTMENT OF DEFENSE

Department of the Navy

Notice of Availability of a Draft Supplemental Environmental Impact Statement/Supplemental Overseas Environmental Impact Statement for the Surveillance Towed Array Sensor System Low Frequency Active Sonar

AGENCY: Department of the Navy, DoD.

ACTION: Notice.

SUMMARY: Pursuant to Section 102(2) of the National Environmental Policy Act of 1969 as implemented by the Council on Environmental Quality regulations (40 CFR parts 1500-1508) and Executive Order 12114 (Environmental Effects Abroad of Major Federal Actions), the Department of the Navy (DoN) has prepared and filed with the U.S. Environmental Protection Agency (USEPA) a Draft Supplemental Environmental Impact Statement/Supplemental Overseas Environmental Impact Statement (Draft SEIS/SOEIS) to provide supplemental analyses for the DoN's employment of Surveillance Towed Array Sensor System Low Frequency Active (SURTASS LFA) sonar systems. USEPA published their notice of availability of the SURTASS LFA sonar draft supplement on August 19, 2011 (EIS No. 20110269).

DATES: Public comment period will end on October 17, 2011.

ADDRESSES: Written comments on the SURTASS LFA Sonar Draft SEIS/SOEIS should be addressed to: Chief of Naval Operations, Code N2/N6F24, c/o SURTASS LFA Sonar SEIS/SOEIS Program Manager, 4100 Fairfax Drive, Suite 730, Arlington, Virginia 22203; or e-mail: eisteam@mindspring.com.

FOR FURTHER INFORMATION CONTACT: Chief of Naval Operations, Code N2/N6F24, c/o SURTASS LFA Sonar SEIS/SOEIS Program Manager, 4100 Fairfax Drive, Suite 730, Arlington, Virginia 22203; or e-mail: eisteam@mindspring.com.

SUPPLEMENTARY INFORMATION: The proposed action is the DoN's employment of up to four SURTASS LFA sonar systems in the oceanic areas of the Pacific, Atlantic, and Indian Oceans, and the Mediterranean Sea. The Draft SEIS/SOEIS has been distributed to various Federal, state, and local agencies, as well as other interested individuals and organizations. In addition, copies of the Draft SEIS/SOEIS have been distributed to the following regional libraries for public review:

1. Los Angeles Public Library, Malabar Branch, 2801 Wabash Ave, Los Angeles, CA 90033.

2. San Diego Public Library, 820 E St., San Diego, CA 92101-6478.

3. California State Library, Sutro Library, 480 Winston Drive, San Francisco, CA 94132.

4. San Francisco Public Library, 100 Larkin St. (at Grove), San Francisco, CA 94102.

5. Hawaii Documents Center, Hawaii State Library, 478 South King St., Honolulu, HI 96813.

6. Kaneohe Public Library, 45-829 Kamehameha Highway, Kaneohe, HI 96744.

7. Hilo Public Library, 300 Waianuenue Ave., Hilo, HI 96720.

8. Wailuku Public Library, 251 High St., Wailuku, HI 96793.

9. Lihue Public Library, 4344 Hardy St., Lihue, HI 96766.

10. Boston Public Library, 700 Boylston St., Copley Square, Boston, MA 02116.

11. Norfolk Public Library, Kirn Memorial Library, 301 East City Hall Ave., Norfolk, VA 23510.

12. Virginia Beach Public Library, 4100 Virginia Beach Blvd., Virginia Beach, VA 23452.

13. Seattle Public Library, 1000 Fourth Ave., Seattle, WA 98104.

14. Martin Luther King Memorial Library, 901 G St., NW., Washington, DC 20001.

An electronic copy of the Draft SEIS/SOEIS is available for public viewing and download at: http://www.surtass-lfa-eis.com/. Single CDs and copies of the Draft SEIS/SOEIS and Executive Summary are available upon request by contacting: SURTASS LFA Sonar EIS Program Manager, 4100 Fairfax Drive, Suite 730, Arlington, VA 22203; or e-mail: eisteam@mindspring.com.

Federal, State, and local agencies and interested parties are invited and urged to provide written comments, which can be submitted by mail to: SURTASS LFA Sonar EIS Program Manager, 4100 Fairfax Drive, Ste 730, Arlington, VA 22203; or e-mail: eisteam@mindspring.com. All written comments must be postmarked by Monday, October 17, 2011, to ensure that they become part of the official record. No public hearings or meetings are planned. All timely comments will be addressed in the Final SEIS/SOEIS.

Dated: September 6, 2011.
L. M. Senay,
Lieutenant, Judge Advocate General's Corps, U.S. Navy, Alternate Federal Register Liaison Officer.

[FR Doc. 2011-23306 Filed 9-12-11; 8:45 am]

BILLING CODE 3810-FF-P